DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 26 newly-designated entities whose property and interests in property are blocked pursuant to Executive Order 13382 of June 28, 2005, “Blocking Property of Weapons of Mass Destruction Proliferators and Their Supporters.”

DATES: The designation by the Director of OFAC of the 26 entities identified in this notice pursuant to Executive Order 13382 is effective on January 13, 2011.

FOR FURTHER INFORMATION CONTACT: Assistant Director, Compliance Outreach & Implementation Office of Foreign Assets Control, Department of the Treasury, Washington, DC 20220, tel.: 202/622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On January 13, 2011, the Director of OFAC, in consultation with the Departments of State, Justice, and other relevant agencies, designated 26 entities whose property and interests in property are blocked pursuant to Executive Order 13382.

The list of additional designees is as follows:

Entities

Advance Novel Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1342245 (Hong Kong) issued 1 Jun 2009 [NPWMD]

Alpha Effort Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1338849 (Hong Kong) issued 18 May 2009; E-mail Address info@ssa-smc.net; Web site http://www.ssa-smc.net; Telephone: 982126100191; Fax: 982126100192 [NPWMD]

Best Precise Limited, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Business Registration Document # 1342234 (Hong Kong) issued 1 Jun 2009; E-mail Address info@ssa-smc.net; Web site http://www.ssa-smc.net; Telephone: 982126100191; Fax: 982126100192 [NPWMD]

Concept Giant Limited, 15th Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1342237 (Hong Kong) issued 1 Jun 2009; E-mail Address info@ssa-smc.net; Web site http://www.ssa-smc.net; Telephone: 982126100191; Fax: 982126100192 [NPWMD]

Great Method Limited, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Business Registration Document #1328889 (Hong Kong) issued 30 Mar 2009; E-mail Address info@ssa-smc.net; Web site http://www.ssa-smc.net; Telephone: 982126100191; Fax: 982126100192 [NPWMD]

Ideal Success Investments Limited, RM B, 12th Floor Chinachem Plaza, 135 Des Voeux Road C, Central District, Hong Kong Island, Hong Kong; Business Registration Document #1209837 (Hong Kong) issued 5 Feb 2008; Telephone: 85228682398; Fax: 85225372603 [NPWMD]

Logistic Smart Limited, c/o Soroush Sarzamin Asatir (SSA) Ship Management Co, Shabnam Alley Golriz St, Vafa Alley Fajr St, Shahid Motahari Avenue, 1589675951, Tehran, Iran; 15th Floor, Tower One Lippo Center,89 Queensway, Hong Kong; Business Registration Document #1342241 (Hong Kong) issued 1 Jun 2009; E-mail Address info@ssa-smc.net; Web site http://www.ssa-smc.net; Telephone: 982126100191; Fax: 982126100192 [NPWMD]

Loweswater Limited, Manning House, 21 Bucks Road, Douglas IM1 3DA, Man, Isle of; Business Registration Document # 003648V (Man, Isle of) issued 2 Mar 2009 [NPWMD]

Mill Dene Limited, Manning House, 21 Bucks Road, Douglas IM1 3DA, Man, Isle of; Business Registration Document #003645V (Man, Isle of) issued 2 Mar 2009 [NPWMD]

Neuman Limited, 15th Floor, Tower Lippo Center, 89 Queensway, Hong Kong; c/o Soroush Sarzamin Asatir (SSA) Ship Management Co, Shabnam Alley Golriz St, Vafa Valley Fajr St, Shahid Motahari Avenue, 1589675951, Tehran, Iran; Business Registration Document #1338887 (Hong Kong) issued 18 May 2009; E-mail Address info@ssa-smc.net; Web site http://www.ssa-smc.net; Telephone: 982126100191; Fax: 982126100192 [NPWMD]

New Desire Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1329111 (Hong Kong) issued 30 Mar 2009; E-mail Address info@ssa-smc.net; Web site http://www.ssa-smc.net; Telephone: 982126100191; Fax: 982126100192 [NPWMD]

Partner Century Limited, 15th Floor, Tower One Lippo Center, 89 Queensway, Hong Kong, Hong Kong; c/o Soroush Sarzamin Asatir (SSA) Ship Management Co, Shabnam Alley Golriz St, Vafa Valley Fajr St, Shahid Motahari Avenue, 1589675951, Tehran, Iran; Business Registration Document #1342247 (Hong Kong) issued 1 Jun 2009; E-mail Address info@ssa-smc.net; Web site http://www.ssa-smc.net; Telephone: 982126100191; Fax: 982126100192 [NPWMD]

Sackville Holdings Limited, 15th Floor, Tower One Lippo Center, 89 Queensway, Hong Kong; c/o Soroush Sarzamin Asatir (SSA) Ship Management Co, Shabnam Alley Golriz St, Vafa Valley Fajr St, Shahid Motahari Avenue, 1589675951, Tehran, Iran; Business Registration Document #1328844 (Hong Kong) issued 30 Mar 2009; E-mail Address info@ssa-smc.net; Web site http://www.ssa-smc.net; Telephone: 982126100191; Fax: 982126100192 [NPWMD]

Sandford Group Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1328859 (Hong Kong) issued 30 Mar 2009; E-mail Address info@ssa-smc.net; Web site http://www.ssa-smc.net; Telephone: 982126100191; Fax: 982126100192 [NPWMD]

Shallon Limited, Manning House, 21 Bucks Road, Douglas IM1 3DA, Man, Isle of; RIF #003646V (Man, Isle of) issued 2 Mar 2009 [NPWMD]

Sino Access Holdings Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1328924 (Hong Kong) issued 30 Mar 2009; E-mail Address info@ssa-smc.net; Web site http://www.ssa-smc.net; Telephone: 982126100191; Fax: 982126100192 [NPWMD]

Smart Day Holdings Group Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #325234 (Hong Kong) issued 26 Mar 2009; E-mail Address info@ssa-smc.net; Web site http://www.ssa-smc.net; Telephone: 982126100191; Fax: 982126100192 [NPWMD]

Springthorpe Limited, Manning House, 21 Bucks Road, Douglas IM1 3DA, Man, Isle of; Business Registration Document #003647 (Man, Isle of) issued 2 Mar 2009 [NPWMD]

Starry Shine International Limited, RM B, 12th Floor Two Chinachem Plaza, 135 Des Voeux Road C, Central District, Hong Kong Island, Hong Kong; Business Registration Document #1213306 (Hong Kong) issued 26 Feb 2008; Telephone: 85228682398; Fax: 85225372603 [NPWMD]

System Wise Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1328944 (Hong Kong) issued 30 Mar 2009; E-mail Address info@ssa-smc.net; Web site http://www.ssa-smc.net; Telephone: 982126100191; Fax: 982126100192 [NPWMD]

Top Glacier Company Limited, RM B, 12th Floor Chinachem Plaza, 135 Des Voeux Road C, Central District, Hong Kong Island, Hong Kong; Business Registration Document #1209891 (Hong Kong) issued 5 Feb 2008; Telephone: 85228682398; Fax: 85225372603 [NPWMD]

Top Prestige Trading Limited, RM B, 12th Floor Chinachem Plaza, 135 Des Voeux Road C, Central District, Hong Kong Island, Hong Kong; Business Registration Document #1204518 (Hong Kong) issued 17 Jan 2008; Telephone: 85228682398; Fax: 85225372603 [NPWMD]

Trade Treasure Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1338904 (Hong Kong) issued 18 May 2009; E-mail Address info@ssa-smc.net; Web site http://www.ssa-smc.net; Telephone: 982126100191; Fax: 982126100192 [NPWMD]

24. True Honour Holdings Limited, 15th Floor, Tower One Lippo Center, 89 Queensway, Hong Kong; c/o Soroush Sarzamin Asatir (SSA) Ship Management Co, Shabnam Alley Golriz St, Vafa Alley Fajr St, Shahid Motahari Avenue, 1589675951, Tehran, Iran; Business Registration Document #1338908 issued 18 May 2009; E-mail Address info@ssa-smc.net; Web site http://www.ssa-smc.net; Telephone: 982126100191; Fax: 982126100192 [NPWMD]

25. M. Babaie Industries (a.k.a. SHAHID BABAIE INDUSTRIES; a.k.a. SHAHID BABAIE INDUSTRIES COMPLEX; a.k.a. SHAHID BABAII INDUSTRIES CO.), P.O. Box 16535-176, Tehran 16548, Iran [NPWMD]

26. Shahid Ahmad Kazemi Industries Group, Pasdaran Avenue, Tehran, Iran [NPWMD]

Dated: March 8, 2011.
Adam J. Szubin,
Director, Office of Foreign Assets Control.

[FR Doc. 2011-6238 Filed 3-18-11; 8:45 am]

BILLING CODE 4810-AL-P